FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 017258NF.

Name: Skycel, Inc. dba Econcargo.

Address: 6305 NW. 99th Avenue, Doral, FL 33178.

Dates Revoked: August 14, 2014 (NVOCC); July 11, 2014 (OFF).

Reason: Failed to maintain valid bonds.

License No.: 019113N.

Name: Amoy International, LLC dba Amoy Line dba VMS Lines.

Address: 14145 Proctor Avenue, Suite 14, City of Industry, CA 91746.

Date Revoked: August 22, 2014.

Reason: Failed to maintain a valid bond.

License No.: 021579N.

Name: LCL Logistics, LLC.

Address: 2325 South Otis Street, Santa Ana, CA 92705.

Date Revoked: August 23, 2014.

Reason: Failed to maintain a valid bond.

License No.: 022017N.

Name: Shinyoung Express Inc.

Address: 1490 Beachey Place, Carson, CA 90746.

Date Revoked: August 14, 2014.

Reason: Failed to maintain a valid bond.

License No.: 024270N.

Name: NMC Logistics Solutions, Inc.

Address: 9910 NW 21st Street, Doral, FL 33172.

Date Revoked: August 22, 2014.

Reason: Failed to maintain a valid bond.

Sandra L. Kusumoto,
Director, Bureau of Certification and Licensing.

[FR Doc. 2014-22385 Filed 9-18-14; 8:45 am]

BILLING CODE 6730-01-P